DEPARTMENT OF DEFENSE

Department of the Army

[Docket ID USA-2014-0026]

Privacy Act of 1974; System of Records

AGENCY: Department of the Army, DoD.

ACTION: Notice to amend two systems of records.

SUMMARY: The Department of the Army proposes to amend two systems of records “A0340-21 OAA, Privacy Case Files” and “A0025-55 OAA, Freedom of Information Act Program Files” in its inventory of record systems subject to the Privacy Act of 1974, as amended. The A0340-21 OAA is used to process and coordinate requests for access and amendment of an individuals' record; to process appeals on denials of requests for access or amendment to individuals' records by the data subject against agency rulings; and to ensure timely response to requesters. The A0025-55 OAA is used to control administrative processing of requests for information either pursuant to the Freedom of Information Act Program or to E.O. 12958, National Classified Security Information, as amended, including appeals from denials.

DATES: Comments will be accepted on or before August 11, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Office Web site at http://dpclo.defense.gov/.

The proposed changes to the record systems being amended are set forth in this notice. The proposed amendments are not within the purview of subsection (r) of the Privacy Act of 1974 (5 U.S.C. 552a), as amended, which requires the submission of a new or altered system report.

Dated: July 8, 2014.
Aaron Siegel,
Alternate OSD Federal Register Liaison Officer, Department of Defense.

A0340-21 OAA

System name:

Privacy Case Files (December 8, 2005, 70 FR 72997)

Changes:

* * * * *

System location:

Delete entry and replace with “These records exist at Headquarters, Department of the Army, staff and field operating agencies, major commands, installations and activities receiving Privacy Act requests.

Director, U.S. Army Records Management and Declassification Agency, ATTN: Freedom of Information/Privacy Division, 7701 Telegraph Road, Casey Building, Suite 144, Alexandria, VA 22315-3905.

Records also exist in offices of Access and Amendment Refusal Authorities when an individual's request to access and/or amend his/her record is denied. Upon appeal of that denial, record is maintained by the Department of the Army Privacy Review Board.”

* * * * *

Purpose(s):

Delete entry and replace with “To process and coordinate requests for access and amendment of an individuals' record; to process appeals on denials of requests for access or amendment to individuals' records by the data subject against agency rulings; and to ensure timely response to requesters.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Uses set forth at the beginning of the Army's compilation of systems of records notices may apply to this system.”

* * * * *

Retrievability:

Delete entry and replace with “By individual's name.”

Safeguards:

Delete entry and replace with “Records are accessed by custodian of the record system and by persons responsible for servicing the record system in performance of their official duties. Records are stored in locked cabinets or rooms.

DoD components and approved users ensure that electronic records collected and used are maintained in controlled areas accessible only to authorized personnel. Physical security differs from site to site, but the automated records must be maintained in controlled areas accessible only by authorized personnel. Access to computerized data is restricted by use of common access card (CAC) and is accessible only by users with an authorized account. The system and electronic backups are maintained in controlled facilities that employ physical restrictions and safeguards such as security guards, identification badges, key cards, and locks.”

* * * * *

Notification procedure:

Delete entry and replace with “Individuals seeking to determine whether information about themselves is contained in this system should address written inquiries to the U.S. Army Records Management and Declassification Agency, Freedom of Information/Privacy Division, 7701 Telegraph Road, Casey Building, Suite 144, Alexandria, VA 22315-3905.

For verification purposes, individual should provide full name, date and place of birth, current address and other personal information necessary to locate the record.

In addition, the requester must provide a notarized statement or an unsworn declaration made in accordance with 28 U.S.C. 1746, in the following format:

If executed outside the United States: 'I declare (or certify, verify, or state) under penalty of perjury under the laws of the United States of America that the foregoing is true and correct. Executed on (date). (Signature).'

If executed within the United States, its territories, possessions, or commonwealths: 'I declare (or certify, verify, or state) under penalty of perjury that the foregoing is true and correct. Executed on (date). (Signature).'”

Record access procedures:

Delete entry and replace with “Individuals seeking access to information about themselves contained in this system should address written inquiries to the office that processed the initial inquiry, access request, or amendment request.

Individual may obtain assistance from the U.S. Army Records Management and Declassification Agency, Freedom of Information/Privacy Division, 7701 Telegraph Road, Casey Building, Suite 144, Alexandria, VA 22315-3905.

For verification purposes, individual should provide full name, date and place of birth, current address and other personal information necessary to locate the record.

In addition, the requester must provide a notarized statement or an unsworn declaration made in accordance with 28 U.S.C. 1746, in the following format:

If executed outside the United States: 'I declare (or certify, verify, or state) under penalty of perjury under the laws of the United States of America that the foregoing is true and correct. Executed on (date). (Signature).'

If executed within the United States, its territories, possessions, or commonwealths: 'I declare (or certify, verify, or state) under penalty of perjury that the foregoing is true and correct. Executed on (date). (Signature).'”

* * * * *

A0025-55 OAA

System name:

Freedom of Information Act Program Files (December 8, 2005, 70 FR 72996)

Changes:

* * * * *

System location:

Delete entry and replace with “Headquarters, Department of the Army, staff and field operating agencies, major commands, installations and activities receiving requests to access records pursuant to the Freedom of Information Act or to declassify documents pursuant to E.O. 12958, National Classified Security Information, as amended. Director, U.S. Army Records Management and Declassification Agency, Freedom of Information/Privacy Division, 7701 Telegraph Road, Casey Building, Suite 150A, Alexandria, VA 22315-3905.”

* * * * *

Authority for maintenance of the system:

Delete entry and replace with “5 U.S.C. 552, Freedom of Information Act, as amended by Pub.L. 93-502; 5 U.S.C. 301, Departmental Regulations, 10 U.S.C. 3013, Secretary of the Army; Army Regulation 25-55, The Department of the Army Freedom of Information Act Program; and E.O. 13292, Further Amendment to Executive Order 12958, as amended, Classified National Security Information.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.”

* * * * *

Safeguards:

Delete entry and replace with “All records are maintained in areas accessible only to authorized personnel who have official need in the performance of their assigned duties. Automated records are further protected by assignment of users' identification and password to protect the system from unauthorized access. User identification and passwords are changed at random times. DoD Components and approved users ensure that electronic records collected and used are maintained in controlled areas accessible only to authorized personnel. Physical security differs from site to site, but the automated records must be maintained in controlled areas accessible only by authorized personnel. Access to computerized data is restricted by use of common access cards (CACs) and is accessible only by users with an authorized account. The system and electronic backups are maintained in controlled facilities that employ physical restrictions and safeguards such as security guards, identification badges, key cards, and locks.”

* * * * *

Notification procedure:

Delete entry and replace with “Individuals seeking to determine if information about themselves is contained in this record system should address written inquiries to the Director, U.S. Army Records Management and Declassification Agency, Freedom of Information/Privacy Division, 7701 Telegraph Road, Casey Building, Suite 150A, Alexandria, VA 22315-3905.

For verification purposes, individual should provide enough information to permit locating the record.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’ ”

Record access procedures:

Delete entry and replace with “Individuals seeking access to records about themselves contained in this record system should address written inquiries to the Director, U.S. Army Records Management and Declassification Agency, Freedom of Information/Privacy Division, 7701 Telegraph Road, Casey Building, Suite 150A, Alexandria, VA 22315-3905.

For verification purposes, individual should provide enough information to permit locating the record.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’ ”

* * * * *

[FR Doc. 2014-16258 Filed 7-10-14; 8:45 am]

BILLING CODE 5001-06-P